FEDERAL COMMUNICATIONS COMMISSION

Notice of Public Information Collection(s) Being Reviewed by the Federal Communications Commission for Extension Under Delegated Authority 5 CFR 1320 Authority, Comments Requested

April 29, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments on or before July 2, 2002.

ADDRESSES: Direct all comments to Les Smith, Federal Communications Commission, Room 1-A804, 445 12th Street, SW., Washington, DC 20554, or via the Internet to lesmith@fcc.gov.

FOR FURTHER INFORMATION CONTACT: For additional information or copies of the information collections contact Les Smith at 202-418-0217 or via the Internet at lesmith@fcc.gov.

SUPPLEMENTARY INFORMATION: OMB Control Number: 3060-0014.

Title: FCC Form 308, Application for Permit to Deliver Programs to Foreign Broadcast Stations.

Type of Review: Reinstatement, without change, of a previously approved collection for which approval has expired.

Respondents: Businesses or other for-profit entities.

Number of Respondents: 25.

Estimated Time per Response: 2 hours.

Frequency of Response: On occasion reporting requirements.

Total Annual Burden: 50 hours.

Total Annual Costs: $17,000.

Needs and Uses: Under 47 CFR section 73.3545 of the Commission's rules and section 325(c) of the Communications Act of 1934, as amended, FCC Form 308 is used to apply for authority to locate, use, or maintain a studio in the United States for the purpose of supplying program material to a foreign radio or TV broadcast station, whose signals are consistently received in the United States, or for extension of existing authority. An informal application for a permit of this nature may also be used by applicants holding an AM, FM or TV broadcast station license or construction permit, so long as applications contain a description of the nature and character of the programming proposed, the applicant's ownership, and an explanation of the legal relationship between the applicant and foreign station(s) involved.

OMB Control Number: 3060-0892.

Title: Direct Broadcast Satellite Public Interest Obligations.

Type of Review: Extension of a currently approved collection.

Respondents: Businesses or other for-profit entities.

Number of Respondents: 8.

Estimated Time per Response: 12 hours.

Frequency of Response: Once.

Total Annual Burden: 96 hours.

Total Annual Costs: None.

Needs and Uses: Under 47 CFR section 100.5, each Direct Broadcast Satellite (DBS) provider, as part of its public interest obligations, must annually determine its channel capacity. This is done by calculating, based on measurements taken quarterly, the average number of channels available for video programming on all satellites licensed to the provider during the previous year. 47 CFR section 100.5(c)(6) also sets forth public file and recordkeeping obligations in this regard.

Federal Communications Commission.
Marlene Dortch,
Secretary.

[FR Doc. 02-10997 Filed 5-2-02; 8:45 am]

BILLING CODE 6712-01-P